DEPARTMENT OF TRANSPORTATION

Coast Guard

33 CFR Part 165

[CGD05-02-015]

RIN 2115-AE84

Regulated Navigation Area; Fifth Coast Guard District

AGENCY: Coast Guard, DOT.

ACTION: Advanced notice of proposed rulemaking.

SUMMARY: The Coast Guard, in an effort to continually update its regulations and to provide a useable service to the public, proposes to establish a Regulated Navigation Area (RNA) encompassing the entire Fifth Coast Guard District. This RNA would provide for the safety of life and property, help facilitate commerce, and would impose restrictions on vessels operating within the RNA when ice is a threat to navigation. The Coast Guard solicits comments from the public and industry on the questions listed in this request.

DATES: Comments and related material must reach the Coast Guard on or before April 21, 2003.

ADDRESSES: You may mail comments and related material to Commander (oan), Fifth Coast Guard District, 431 Crawford Street, Portsmouth, Virginia 23704. The Fifth Coast Guard District Waterways Management Section maintains the public docket for this rulemaking. Comments and material received from the public, as well as documents indicated in this preamble as being available in the docket, will become part of this docket and will be available for inspection or copying at the above mentioned office between 9 a.m. and 3 p.m., Monday through Friday, except Federal holidays.

FOR FURTHER INFORMATION CONTACT: Lieutenant (junior grade) Anne Grabins, Aids to Navigation and Waterways Management Branch; phone: (757) 398-6559; e-mail: agrabins@lantd5.uscg.mil.

SUPPLEMENTARY INFORMATION:

Request for Information

We encourage you to participate in this rulemaking by submitting comments and related material. If you do so, please include your name and address, identify the docket number for this rulemaking (CGD05-02-015), indicate the specific section of this document to which each comment applies, and give the reason for each comment. Please submit all comments and related material in an unbound format, no larger than 8½ by 11 inches, suitable for copying, to the address listed under ADDRESSES. If you would like to know that your submission reached us, please enclose a stamped, self-addressed postcard or envelope. We will consider all comments and material received during the comment period. We may change this proposed rule in view of them.

Public Meeting

We do not now plan to hold a public meeting, but you may submit a request for a meeting by writing to the Fifth Coast Guard District Waterways Management Section at the address under ADDRESSES explaining why one would be beneficial. If we determine that one would aid this rulemaking, we will hold one at a time and place announced by a later notice in the Federal Register.

Background and Purpose

Executive Order No. 7521, 1 FR 2527, directed the Coast Guard to keep open to navigation, by means of ice-breaking operations, the waterways of the United States in accordance with the reasonable demands of commerce. On May 19, 1983, the Captain of the Port Baltimore exercised the provisions of a Regulated Navigation Area(RNA) published in the Federal Register (48 FR 22543) to manage vessel traffic in the event ice impedes navigation. The RNA imposed certain operational restrictions, established by the COTP, on vessels that intended to operate within the Baltimore COTP zone. This RNA was repealed on February 27, 1998 (63 FR 9942), because it was believed that it was unnecessary to impose general continuous restrictions on all vessels through the winter months and that prudent mariners could make decisions about whether it was safe for their vessel to operate in ice.

Interest in a vessel management tool similar to the RNA previously in place in the Baltimore Captain of the Port Zone has been resurrected. It is anticipated that a RNA will decrease the administrative burden to the Coast Guard and industry, establish consistent policy throughout the Fifth Coast Guard District, and assist the management of the limited Coast Guard ice capable resources.

The ice navigation season historically begins in the Delaware and Chesapeake Bay regions as early as the first week in December and in Albemarle and Pamlico Sounds in North Carolina in January. Ice has historically ceased to be an impediment to all types of marine navigation interests by the first week in March. During a moderate or severe winter, frozen waterways can become a serious problem, impeding a vessel's ability to maneuver, and causing visual aids to navigation to be submerged, destroyed or moved off station. Vessel watertight integrity can also be compromised by ice abrasion and ice pressure with the greatest adverse affect on fiberglass and wood hulls and the least effect on steel or ice-reinforced hulls.

When ice conditions deteriorate to a point where independent vessel operations are not possible, convoy operations are required to enable vessels to transit. Coast Guard vessels built to operate in the ice typically conduct convoy operations. In recent years, the number of Coast Guard resources available to operate in ice has been reduced by 59%. In 1984, the Fifth Coast Guard District had 17 Coast Guard surface assets capable of working in various ice conditions. There are currently seven surface assets capable in the Fifth District to maintain aids to navigation, perform convoy missions in ice, and execute other Coast Guard missions that can be performed only by an ice capable vessel. These surface assets possess capabilities defined by their draft, horsepower, crew size, and their designed ability to break ice. Additionally, climatic, hydrographic, geographic, and operational constraints determine where and when these vessels may conduct convoy operations. Of the seven surface assets available to operate in ice, one has the capability to break 14 inches of ice at three knots; three have the capability to break up to nine inches at three knots; and three have the capability to break up to six inches of ice at three knots. The Coast Guard's ability to support convoy operations is finite, therefore, it behooves commercial traffic as well as the Coast Guard to effectively plan where and how surface assets are employed.

In addition to the deepwater ports of Hampton Roads, Baltimore, Richmond, and Philadelphia that support manufacturing and trade, many waterways of the Fifth Coast Guard District are used for the transport of fuels for residential and commercial use. The primary transportation method to deliver fuel oil for power generation and home heating is by barge, and convoy operations will ensure the reliable delivery of this essential commodity. In the event of a waterborne emergency during the ice season, the Coast Guard's available surface search and rescue (SAR) assets are limited to the same seven Coast Guard cutters capable of performing convoy duty. Establishing a method for the COTPs to regulate vessel traffic will enable the Coast Guard to better manage available resources and prioritize Coast Guard missions when ice is present on Fifth District waterways.

Captains of the Port have the authority (33 CFR part 160, subpart B) to restrict and manage vessel movement by issuing a COTP order. However, this authority may only be directed to a specific vessel, facility or an individual to restrict or stop vessel operations and cannot be issued to “all vessels” or a class of vessels. A Regulated Navigation Area (RNA) is a water area that allows the District Commander to control vessel operations to preserve the safety of adjacent waterfront structures, to ensure safe transit of vessels, or to protect the marine environment. RNA's are typically established when extensive vessel controls are needed over an extended period of time. A Regulated Navigation Area is, therefore, the more appropriate means to control vessel operations to ensure safe transit of vessels when conditions require higher standards of control than that provided by the Navigation Rules.

The Coast Guard recognizes that there are exceptions to every circumstance. With this in mind, the RNA would include a waiver process for vessel operators who may not meet the criteria of the operating restrictions but who may have the capability to operate in ice safely. This waiver would be granted at the discretion of the Captain of the Port.

Questions

Public response to the following questions will help the Coast Guard develop a more complete and carefully considered rulemaking. The questions are not all-inclusive, and any supplemental information is welcome. In responding to each question, please explain the reasons for each answer.

1. Would this type of rulemaking benefit commercial vessels operating within the Fifth Coast Guard District?

2. Are shaft horsepower, hull material, and convoys the best criteria to restrict vessel traffic when ice impedes navigation?

3. What are the most effective threshold levels to set shaft horsepower restrictions?

4. Are separate rules for each COTP zone required to effectively regulate vessel traffic when ice impedes navigation?

5. If a company is able to provide its own convoy escort service, should this be considered in the RNA?

6. What consideration should be given for various tug and barge towing configurations? Is it practical to apply the same shaft horsepower requirement for each towing configuration?

7. Should the horsepower rating for a tractor tug be considered differently than a traditional tug shaft horsepower?

8. Would a shaft horsepower/overall length or shaft horsepower/overall tonnage ratio be a better method of prescribing power requirements for towing vessels?

9. What, if any, elements of barge hull design should be considered?

10. Are there any other criteria that should be considered in developing this rulemaking?

Dated: February 4, 2003.
James D. Hull,
Vice Admiral, Coast Guard, Commander, Fifth Coast Guard District.

[FR Doc. 03-3981 Filed 2-18-03; 8:45 am]

BILLING CODE 4910-15-P